Proclamation 8791 of April 2, 2012

National Child Abuse Prevention Month, 2012

By the President of the United States of America

A Proclamation

As parents, as communities, and as a Nation, the work of raising our children stands among our greatest responsibilities and our most profound blessings. The support we give and the examples we set form cornerstones for their success, and by teaching our children to trust in themselves, we equip them with confidence, hope, and determination that can last a lifetime. Tragically, neglect and abuse erode this fundamental promise for too many young Americans. During National Child Abuse Prevention Month, we renew our commitment to break the cycle of violence, strengthen support for all who have been affected, and empower our young people with the best we have to offer.

Over half a million American children suffer neglect or abuse every year. A strong and well-informed family unit is the surest defense against child abuse, and parents and caregivers who have support—from relatives, friends, neighbors, and their communities—are more likely to provide safe and healthy homes for their children. Trusted friends and active community members can help ensure families get the support they need by offering their time and resources, taking an active role in children’s lives, and fostering a safe environment for young people to learn and grow. By coming together in service to our communities, we do more to meet our obligation to do right by the next generation.

My Administration continues to prioritize the health and well-being of children across our country. With partners at every level of government and throughout the private sector, we are supporting services that protect young Americans from abuse and neglect and extend help to those who have been affected. We are investing in early learning programs and supporting initiatives that promote positive outcomes for children and families. And we are connecting parents and professionals to new tools to identify, treat, and prevent abuse. I encourage all Americans to learn more about what they can do at: www.ChildWelfare.gov/Preventing.

Every child deserves the opportunity to grow up with the promise and protection of a loving family. This month, we recommit to that vision, and to providing care, stability, and a brighter future for our sons and daughters.

NOW, THEREFORE, I, BARACK OBAMA, President of the United States of America, by virtue of the authority vested in me by the Constitution and the laws of the United States, do hereby proclaim April 2012 as National Child Abuse Prevention Month. I call upon all Americans to observe this month with programs and activities that help prevent child abuse and provide for children’s physical, emotional, and developmental needs.

IN WITNESS WHEREOF, I have hereunto set my hand this second day of April, in the year of our Lord two thousand twelve, and of the Independence of the United States of America the two hundred and thirty-sixth.

[FR Doc. 2012-8318

Filed 4-4-12; 8:45 am]

Billing code 3295-F2-P